DEPARTMENT OF HEALTH AND HUMAN SERVICES

Centers for Disease Control and Prevention

Disease, Disability, and Injury Prevention and Control; Special Emphasis Panel (SEP): Division of HIV/AIDS Prevention Laboratory Branch Intramural Research Programs

In accordance with Section 10(a)(2) of the Federal Advisory Committee Act (Pub. L. 92-463), the Centers for Disease Control and Prevention (CDC) announces the aforementioned meeting.

Times and Dates: 8 a.m.-4 p.m., June 19, 2008 (Closed). 8:30 a.m.-4 p.m., June 20, 2008 (Closed).

Place: Centers for Disease Control and Prevention, 1600 Clifton Road NE., Bldg 18 Room 2-102, Atlanta, GA 30333 telephone 404-639-4976.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of “Division of HIV/AIDS Prevention Laboratory Branch Intramural Research Programs.”

Contact Person for More Information: Jeffrey A. Johnson, Ph.D., Designated Federal Officer, National Center for HIV/AIDS, Viral Hepatitis, STD and TB Prevention, CDC, 1600 Clifton Road NE., Mailstop G45, Atlanta, GA 30333, Telephone 404-639-4976.

The Director, Management Analysis and Services Office, has been delegated the authority to sign Federal Register notices pertaining to announcements of meetings and other committee management activities, for both CDC and the Agency for Toxic Substances and Disease Registry.

Dated: March 26, 2008.
Elaine L. Baker,
Director, Management Analysis and Services Office, Centers for Disease Control and Prevention.

[FR Doc. E8-6885 Filed 4-2-08; 8:45 am]

BILLING CODE 4163-18-P